DEPARTMENT OF ENERGY

Federal Energy Regulatory Commission

[Project No. 1895-105]

City of Columbia, South Carolina; Notice of Availability and Adoption of Final Environmental Assessments

Pending before the Federal Energy Regulatory Commission (Commission) is an application filed by the City of Columbia, South Carolina (licensee) for a non-capacity amendment for the Columbia Hydroelectric Project No. 1895. In October 2015, historic rain and flooding in Columbia, South Carolina damaged and destroyed many project features. As proposed, the applicant plans to repair the damaged features, to include replacement of the project headgates and powerhouse generating equipment, as well as repair the canal embankment.

In accordance with the National Environmental Policy Act of 1969 (NEPA), the Commission's regulations at 18 CFR part 380, Commission staff have decided to adopt the Environmental Assessments (EAs) produced by the U.S. Department of Housing and Urban Development (HUD) and the Federal Emergency Management Agency (FEMA) for the proposed work.¹ In determining whether to adopt the EA, Commission staff independently reviewed each EA. The actions analyzed by HUD and FEMA are substantially the same as those being proposed in the licensee's application, and therefore, Commission staff concludes that the EAs adequately assess the environmental impacts of the proposed action and can be adopted. Commission staff also agrees with HUD's and FEMA's finding that the proposed work is not a major Federal action significantly affecting the quality of the human environment.

¹ The unique identification number for documents relating to this environmental review is: EAXX-019-20-000-1738918338.

The HUD EA titled “Columbia Canal Head Gates and Lock Repair Project” and the FEMA EA titled “Columbia Canal 2015 Flood Repairs (Hydroelectric Plant and Canal Dikes) can be viewed through links contained in the City of Columbia's amendment application filed in the Commission's eLibrary system on July 1, 2024, under Docket P-1895.

The Commission's Office of Public Participation (OPP) supports meaningful public engagement and participation in Commission proceedings. OPP can help members of the public, including landowners, Tribal members and others, access publicly available information and navigate Commission processes. For public inquiries and assistance with making filings such as interventions, comments, or requests for rehearing, the public is encouraged to contact OPP at (202) 502-6595 or OPP@ferc.gov.

For further information, contact Jennifer Polardino at (202) 502-6437 or jennifer.polardino@ferc.gov.

Dated: February 20, 2025.
Debbie-Anne A. Reese,
Secretary.

[FR Doc. 2025-03128 Filed 2-25-25; 8:45 am]

BILLING CODE 6717-01-P